COMMISSION ON CIVIL RIGHTS

Notice of Public Meeting of the Nebraska Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Nebraska Advisory Committee (Committee) to the U.S. Commission on Civil Rights will hold a meeting on Wednesday, February 22, 2023 at 12:30 p.m.-1:30 p.m. Central Time. The purpose for the meeting is to discuss the proposal for their project on the effects of the pandemic on education in the state.

DATES: The meetings will take place on: Wednesday, February 22, 2023, from 12:30 p.m.-1:30 p.m. Central Time.

ADDRESSES: Registration Link: https://www.zoomgov.com/j/1613828405?pwd=cUFYaHFKRzlUMUdVeU9XUEJlcUUrQT09 Telephone (Audio Only): Dial 833 435 1820 USA Toll Free; Access code: 161 382 8405#

FOR FURTHER INFORMATION CONTACT: Victoria Moreno at vmoreno@usccr.gov or by phone at 434-515-0204.

SUPPLEMENTARY INFORMATION: This meeting is available to the public through the Zoom link above. If joining only via phone, callers can expect to incur charges for calls they initiate over wireless lines and the Commission will not refund any incurred charges.

Individuals who are deaf, deafblind and hard of hearing may also follow the proceedings by first calling the Federal Relay Service at 1-800-877-8339 and providing the Service with the conference call number and conference ID number.

Members of the public are also entitled to submit written comments; the comments must be received in the regional office within 30 days following the meeting. Written comments may be emailed to Victoria Moreno at vmoreno@usccr.gov. All written comments received will be available to the public.

Persons who desire additional information may contact the Regional Programs Unit at (202) 809-9618. Records and documents discussed during the meeting will be available for public viewing as they become available at www.facadatabase.gov. Persons interested in the work of this Committee are advised to go to the Commission's website, http://www.usccr.gov, or may contact the Regional Programs Unit at the above email or email address.

Agenda:

I. Welcome and Roll Call

II. Chair's Comments

III. Discuss Project Proposal

IV. Next Steps

V. Public Comment

VI. Adjournment

Dated: February 3, 2023.
David Mussatt,
Supervisory Chief, Regional Programs Unit.

[FR Doc. 2023-02683 Filed 2-7-23; 8:45 am]

BILLING CODE P